FEDERAL ELECTION COMMISSION

11 CFR Parts 100, 104, and 109

[Notice 2002-10]

Independent Expenditure Reporting

AGENCY: Federal Election Commission.

ACTION: Final rule; announcement of effective date.

SUMMARY: On March 20, 2002, the Commission published the text of regulations regarding independent expenditure reporting. The Commission announces that these rules are effective as of June 13, 2002.

DATES: Effective date: June 13, 2002.

FOR FURTHER INFORMATION CONTACT: Ms. Rosemary C. Smith, Acting Associate General Counsel, or Ms. Cheryl Fowle, Attorney, 999 E Street, NW, Washington, DC 20463, (202) 694-1650 or (800) 424-9530.

SUPPLEMENTARY INFORMATION: The Commission is announcing the effective date of revisions to the regulations at 11 CFR 100.19, 104.4(b), 104.5(f) and (g), 104.14(a), 104.18(h), 109.1(f) and 109.2 regarding independent expenditure reporting. See Explanation and Justification for Independent Expenditure Reporting, 67 FR 12834 (March 20, 2002). These rules implement Public Law 106-346 (Department of Transportation and Related Agencies Appropriations Act, 2001, 114 Stat. 1356 (2000)), which amended the Federal Election Campaign Act of 1971, 2 U.S.C. 431 et seq., (“the Act” or “FECA”). Under the new regulations, reports of last minute independent expenditures (“24-hour reports”) must be actually received by the Commission or the Secretary of the Senate's office within 24 hours of the time the independent expenditure was made. To assist those who must meet this new reporting deadline, the new rules allow reports of last minute independent expenditures to be filed by facsimile machine or electronic mail, unless the filer participates in the Commission's electronic filing program. Electronic filers must continue to file all reports of independent expenditures (24-hour reports as well as regularly scheduled reports) using the Commission's electronic filing system.

Under the Administrative Procedures Act, 5 U.S.C. 553(d), and the Congressional Review of Agency Rulemaking Act, 5 U.S.C. 801(a)(1), agencies must submit final rules to the Speaker of the House of Representatives and the President of the Senate and publish them in the Federal Register at least 30 calendar days before they take effect. The final rules on Independent Expenditure Reporting were transmitted to Congress on March 15, 2002. Thirty legislative days expired in the Senate on May 14, 2002, and in the House of Representatives on May 22, 2002.

In addition, please note, the Bipartisan Campaign Reform Act of 2002, Pub. L. 107-155, 116 Stat. 81 (March 27, 2002) requires, inter alia, the Commission to promulgate new rules regarding the reporting of independent expenditures. The Commission is in the process of promulgating such rules, which will not take effect before November 6, 2002.

The Commission also revised FEC Form 5, Reports of Independent Expenditures by Persons Other Than Political Committees, and Schedule E, Reports of Independent Expenditures by Political Committees, and their respective instructions. These forms were transmitted to Congress (2 U.S.C. 438(d)) on May 7, 2002, and ended their ten legislative day period on May 22, 2002, in the Senate and on May 24, 2002, in the House of Representatives. The revised forms and instructions are also effective as of June 13, 2002.

Dated: June 10, 2002.
David. M. Mason,
Chairman, Federal Election Commission.

[FR Doc. 02-14901 Filed 6-12-02; 8:45 am]

BILLING CODE 6715-01-P